FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201315-001.

Agreement Name: NYSA-ILA Assessment Agreement.

Parties: New York Shipping Association and the International Longshoremen's Association, AFL-CIO.

Filing Party: Richard Ciampi; The Lambos Firm, LLP.

Synopsis: The amendment reflects the reduction of the assessment on Barge Containers from $25 to $10 effective March 1, 2020.

Proposed Effective Date: 4/8/2020.

Location: https://www2.fmc.gov/FMC.Agreements.Web/Public/AgreementHistory/22427.

Agreement No.: 201339.

Agreement Name: CINS Agreement.

Parties: CMA CGM S.A.; COSCO Shipping Lines Co., Ltd.; Crowley Caribbean Services LLC and Crowley Latin America Services LLC (acting as a single party); Emirates Shipping Line FZE; Evergreen Line Joint Service Agreement; Hapag-Lloyd AG; Hyundai Merchant Marine Co., Ltd.; Maersk A/S; MSC Mediterranean Shipping Company S.A.; Nile Dutch Africa Line B.V.; Ocean Network Express Pte. Ltd.; Orient Overseas Container Line Limited; Pacific International Lines (PTE) Ltd.; Wan Hai Lines Ltd.; Yang Ming Marine Transport Corp.; and Zim Integrated Shipping Services Ltd.

Filing Party: Wayne Rohde; Cozen O'Connor.

Synopsis: The Agreement authorizes the parties to discuss, agree upon, and take steps to detect and prevent the non-declaration and/or misdeclaration of cargo, and/or non-compliance with international standards and regulations related to cargo handling and operations, all for the purpose of protecting the environment and the safety and security of vessels, crews, and cargo.

Proposed Effective Date: 5/24/2020.

Location: https://www2.fmc.gov/FMC.Agreements.Web/Public/AgreementHistory/28487.

Dated: April 10, 2020.
Rachel E. Dickon,
Secretary.

[FR Doc. 2020-07919 Filed 4-14-20; 8:45 am]

BILLING CODE 6730-02-P